DEPARTMENT OF THE INTERIOR

Fish and Wildlife Service

Notice of Availability of the Draft Revised Recovery Plan for the Whooping Crane (Grus americana)

AGENCY: Fish and Wildlife Service, Interior.

ACTION: Notice of document availability.

SUMMARY: The U.S. Fish and Wildlife Service (Service) announces the availability for public review of the draft revised Recovery Plan for the Whooping Crane (Grus americana). The whooping crane is found in the United States east of the Rocky Mountains and in central Canada. The Service solicits review and comment from the public on this draft revised Recovery Plan.

DATES: The comment period for this proposal closes March 14, 2005. Comments on the draft revised Recovery Plan must be received by the closing date to assure consideration.

ADDRESSES: Persons wishing to review the draft revised Recovery Plan can obtain a copy on a CD from the Whooping Crane Coordinator, Aransas National Wildlife Refuge, P.O. Box 100, Austwell, Texas 77950. The draft revised Recovery Plan may also be obtained from the Internet at www.fws.gov/. If you wish to comment, you may submit your comments and materials concerning this draft revised Recovery Plan to the address below.

FOR FURTHER INFORMATION CONTACT: Tom Stehn, USFWS Whooping Crane Coordinator, Aransas National Wildlife Refuge, P.O. Box 100, Austwell, Texas 77950; telephone (361) 286-3559, ext. 221, facsimile (361) 286-3722, e:mail: Tom_Stehn@fws.gov.

SUPPLEMENTARY INFORMATION:

Background

Restoring an endangered or threatened animal or plant to the point where it is again a secure, self-sustaining member of its ecosystem is a primary goal of the Service's endangered species program. To help guide the recovery effort, the Service is working to prepare Recovery Plans for most of the listed species native to the United States. Recovery Plans describe actions considered necessary for conservation of species, establish criteria for downlisting or delisting them, and estimate time and cost for implementing the recovery measures needed.

The Endangered Species Act of 1973 (Act), as amended (16 U.S. C. 1531 et seq.) requires the development of Recovery Plans for listed species unless such a Plan would not promote the conservation of a particular species. Section 4(f) of the Act, as amended in 1988, requires that public notice and an opportunity for public review and comment be provided during Recovery Plan development. The Service will consider all information presented during a public comment period prior to approval of each new or revised Recovery Plan. The Service and other Federal agencies will also take these comments into account in the course of implementing Recovery Plans.

The document submitted for review is the draft revised Recovery Plan for the whooping crane. In the United States, the whooping crane (Grus americana) was listed as Threatened with Extinction in 1967 and Endangered in 1970—both listings were “grandfathered” into the Endangered Species Act of 1973. Critical habitat was designated in 1978. In Canada, it was designated as Endangered in 1978 by the Committee on the Status of Endangered Wildlife in Canada; critical habitat will be designated upon publication of the final recovery strategy on the Species at Risk Act public registry.

Whooping cranes occur only in North America. About 300 individuals exist in the wild at 3 locations, and about 133 whooping cranes are in captivity at 8 sites. Only the Aransas-Wood Buffalo National Park Population that nests in Canada and winters in coastal marshes in Texas is self-sustaining with nearly 200 in the flock. With so few individuals surviving, the population remains in danger of extinction. Historic population declines resulted from habitat destruction, shooting, and displacement by activities of man. Current threats include limited genetics, loss and degradation of migration stopover habitat, collisions with power lines, and degradation of coastal habitat and threat of chemical spills.

The draft revised Recovery Plan includes scientific information about the species and provides objectives and actions needed to downlist the species. Recovery actions designed to achieve these objectives include protection and enhancement of the breeding, migration, and wintering habitat for the AWBP to allow the wild flock to grow and reach ecological and genetic stability, reintroduction and establishment of geographically separate self-sustaining wild flocks to ensure resilience to catastrophic events, and maintenance of a captive breeding flock to protect against extinction that is genetically managed to retain a minimum of 90% of the whooping crane's genetic material for 100 years.

The downlisting criteria proposed in the draft revised Recovery Plan are: (1) A minimum of 40 productive pairs in the AWBP and a minimum of 25 productive pairs occurring in self-sustaining populations at each of two other discrete locations (population targets of 160 in the AWBP and 100 at each of the other locations); and (2) 21 productive pairs in captivity as a safeguard to ensure long-term survival of the species (population target of 153). Criteria to delist the species are not being proposed at this time.

The Whooping Crane draft revised Recovery Plan is being submitted for review to all interested parties, including technical peer review. After consideration of comments received during the review period, the recovery plan will be submitted for final approval.

Public Comments Solicited

The Service solicits written comments on the draft revised Recovery Plan described. All comments received by the date specified above will be considered prior to approval of the final Recovery Plan.

Authority

The authority for this action is Section 4(f) of the Endangered Species Act, 16 U.S.C. 1533(f).

Dated: December 27, 2004.
Bryan Arroyo,
Acting Regional Director, Region 2.

[FR Doc. 05-31 Filed 1-10-05; 8:45 am]

BILLING CODE 4310-55-P